DEPARTMENT OF THE INTERIOR

Bureau of Land Management

[16X.LLID9570000.L14400000.BJ0000.241A.X.4500081115]

Filing of Plats of Survey: Idaho

AGENCY: Bureau of Land Management, Interior.

ACTION: Notice.

SUMMARY: The plat of survey of the following described land are scheduled to be officially filed in the Bureau of Land Management, Idaho State Office, Boise, ID, in 30 days from the date of this publication.

These surveys were executed at the request of the Bureau of Land Management to meet their administrative needs. The lands surveyed are:

The plat representing the dependent resurvey of a portion of the subdivisional lines, and the subdivision of sections 15 and 17, T. 34 N., R. 4 E., of the Boise Meridian, Idaho, Group Number 1425, was accepted May 13, 2016.

The plat representing the dependent resurvey of portions of the north boundary and subdivisional lines, and the subdivision of sections 3 and 10, T. 8 N., R. 3 W., of the Boise Meridian, Idaho, Group Number 1430, was accepted May 25, 2016.

These surveys were executed at the request of the Bureau of Indian Affairs to meet certain administrative and management purposes. The lands surveyed are:

The plat representing the dependent resurvey of portions of the north boundary of the Nez Perce Indian Reservation, west boundary, and subdivisional lines, and the subdivision of sections 19, 21, and 31, T. 37 N., R. 3 W., of the Boise Meridian, Idaho, Group Number 1426, was accepted May 17, 2016.

The plat representing the dependent resurvey of portions of the south boundary and subdivisional lines, and the subdivision of sections 25 and 34, T. 37 N., R. 4 W., of the Boise Meridian, Idaho, Group Number 1434, was accepted May 25, 2016.

These surveys were executed at the request of the U.S. Fish and Wildlife Service to meet certain administrative and management purposes. The lands surveyed are:

The plat representing the dependent resurvey of portions of the east boundary, subdivisional lines, subdivision of section 11, and the original 1885 meanders of Grays Lake in sections 11, 14, and 23, and the subdivision of sections 11, 12, 13, 14, and 23, and certain metes-and-bounds surveys in sections 11, 12, 13, 14, and 23, T. 4 S., R. 43 E., of the Boise Meridian, Idaho, Group Number 1323, was accepted May 13, 2016.

ADDRESSES: A copy of the plats may be obtained from the Public Room at the Bureau of Land Management, Idaho State Office, 1387 S. Vinnell Way, Boise, Idaho 83709, upon required payment.

FOR FURTHER INFORMATION CONTACT: Stanley G. French, (208) 373-3981 Branch of Cadastral Survey, Bureau of Land Management, 1387 South Vinnell Way, Boise, Idaho, 83709-1657. Persons who use a telecommunitcations device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: A person or party who wishes to protest against this survey must file a written notice with the Idaho State Director, Bureau of Land Management, stating that they wish to protest. A statement of reasons for a protest may be filed with the notice of protest and must be filed with the Idaho State Director within thirty days after the protest is filed. If a protest against the survey is received prior to the date of official filing, the filing will be stayed pending consideration to the protest. A plat will not be officially filed until the day after all protests have been dismissed or otherwise resolved. Before including your address, phone number, email address, or other personal identifying information in your comment, you should be aware that your entire comment—including your personal identifying information—may be made publicly available at any time. While you can ask us in your comment to withhold your personal identifying information from public review, we cannot guarantee that we will be able to do so.

Stanley G. French,
Chief Cadastral Surveyor for Idaho.

[FR Doc. 2016-13232 Filed 6-3-16; 8:45 am]

BILLING CODE 4310-GG-P